DEPARTMENT OF TRANSPORTATION

Coast Guard

33 CFR Part 117

[CGD07-02-094]

Drawbridge Operation Regulations; Flagler Memorial, Atlantic Intracoastal Waterway, Palm Beach, Palm Beach County, FL

AGENCY: Coast Guard, DOT.

ACTION: Notice of temporary deviation from regulations.

SUMMARY: The Commander, Seventh Coast Guard District, has approved a deviation from the regulations governing the operation of the new Flagler Memorial bridge across the Atlantic Intracoastal Waterway in Palm Beach, Florida. This deviation allows the drawbridge owner to only open one leaf of the bridge from 9:30 a.m. until 3:30 p.m., from July 29, 2002 until August 1, 2002 to complete emergency repairs to the bascule leaves.

DATES: This deviation is effective from 9:30 a.m. on, July 29, 2002 until 3:30 p.m. on August 1, 2002.

ADDRESSES: Material received from the public, as well as comments indicated in this preamble as being available in the docket, are part of docket [CGD07-02-094] and are available for inspection or copying at Commander (obr), Seventh Coast Guard District, 909 S.E. 1st Avenue, Room 432, Miami, FL 33131 between 8 a.m. and 4 p.m., Monday through Friday, except Federal holidays.

FOR FURTHER INFORMATION CONTACT: Mr. Barry Dragon, Chief, Operations Section, Seventh Coast Guard District, Bridge Branch at (305) 415-6743.

SUPPLEMENTARY INFORMATION: The Florida Department of Transportation requested on July 22, 2002, that the Coast Guard temporarily allow the Flagler Memorial bridge to only open a single leaf of the bridge from 9:30 a.m. until 3:30 p.m., from July 29, 2002 until August 1, 2002. This temporary deviation from the existing bridge regulations is necessary to effect emergency repairs to the bascule leaves. The Flagler Memorial bridge has a horizontal clearance of 40 feet between the fender and the single down span.

The District Commander has granted a temporary deviation from the operating requirements listed in 33 CFR 117.5 to allow the owner to complete emergency repairs to the bascule leaves. Under this deviation, the Flagler Memorial bridge need only open a single leaf of the bridge from 9:30 a.m. until 3:30 p.m., from July 29, 2002 until August 1, 2002.

Dated: July 24, 2002.
Greg Shapley,
Chief, Bridge Administration, Seventh Coast Guard District.

[FR Doc. 02-19356 Filed 7-30-02; 8:45 am]

BILLING CODE 4910-15-P